DEPARTMENT OF HEALTH AND HUMAN SERVICES

National Institutes of Health

Submission for OMB Review; Comment Request; Evaluation of National Youth Anti-Drug Media Campaign

SUMMARY: Under the provisions of section 3507(a)(1)(D) of the Paperwork Reduction Act of 1995, the National Institute on Drug Abuse, the National Institutes of Health, has submitted to the Office of Management and Budget (OMB) a request to review and approve the information collection listed below. This proposed information collection was previously published in the Federal Register on October 17, 2000 and allowed 60 days for public comment. No public comments were received. The purpose of this notice is to allow an additional 30 days for public comment.

Proposed Collection

Title: Evaluation of National Youth Anti-Drug Media Campaign, OMB No. 0925-0466. Information Collection Request: Revision. Need and Use of Information Collection: In 1998, the White House Office of National Drug Control Policy transferred funds to NIDA to conduct an independent, scientifically designed and implemented evaluation of the National Youth Anti-Drug Media Campaign, the first prevention campaign to use paid advertising to discourage youth from drug use. The study is assessing the outcomes and impact of the national campaign in reducing illegal drug use among children and adolescents.

In the first year, two surveys were conducted: (1) The National Survey of Parents and Youth (NSPY), a cross-sectional household survey; and (2) the Community Longitudinal Study of Parents and Youth (CLSPY) in four communities with an ethnographic component. The purpose of this revision is to discontinue the CLSPY and incorporate its longitudinal component into the NSPY to maximize resources and strengthen analytic ability. The revised NSPY will be the first to measure the effectiveness of a media campaign by following a large nationally-representative cohort of parents and children from the same household as they are exposed to a media campaign over time. All data will continue to be collected using a combination of computer-assisted personal interviews (CAPI) and audio computer-assisted self-interviews (ACASI). The findings form the basis of semiannual and annual reports on campaign progress. These reports provide assistance in improving the national campaign, and will help to establish a rich data base of information about the process involved in changing attitudes and behaviors by the mass media.

Frequency of Response: The revised NSPY data collection will continue over a four-year period, ending in December 2003. Each data collection wave will last approximately 6 months. Affected Public: Individuals and households. Types of Respondents: Children and parents. The annual reporting burden, which will drop substantially from the original design, is as follows:

Estimated Respondent Burden Waves 3 Through 7 (1/1/01 Through 12/31/03)
Type of respondents | Estimated number of respondents | Estimated number of responses per respondent | Average time in hours per response | Estimated total burden hours | Estimated annual hour burden (over 3 years)
National Survey of Parents and Youth (NSPY)
Baseline (Wave 3):
Screener respondent | 23,300 | 1 | .07 | 1,631 | 544
Youth 9-11 | 937 | 1 | .58 | 543 | 181
Adolescents 12-18 | 1,457 | 1 | .75 | 1,093 | 364
Parents | 1,654 | 1 | .92 | 1,522 | 507
Followup (Waves 4-7):
Screener respondent | 4,849 | 2 | .10 | 970 | 323
Youth 9-11 | 1,315 | 2 | .58 | 1,525 | 508
Adolescents 12-18 | 5,094 | 2 | .75 | 7,641 | 2,547
Parents | 4,564 | 2 | .92 | 8,398 | 2,799
Total estimated burden | 43,170 |  | .54 | 23,323 | 7,774

There are no Capital Costs to report. There are no Operating or Maintenance Costs to report. Because of the sensitivity of collecting data from families in households involving children as young as 9 years old, and the importance of minimizing costs for repetitive, return visits to obtain respondent cooperation, NIDA provides a reasonable cost incentive to reimburse respondents for their time, as approved by OMB.

Request for Comments

Written comments and/or suggestions from the public and affected agencies are invited on one or more of the following points: (1) Whether the proposed revision in the data collection is necessary for the proper performance of the function of the agency, including whether the information will have practical utility; (2) the accuracy of the agency's estimate of the burden of the proposed revision, including the validity of the methodology and assumptions used; (3) ways to enhance the quality, utility, and clarity of the information to be collected; and (4) ways to minimize the burden of the collection of information on those who are to respond, including the use of appropriate automated, electronic, mechanical, or other technological collection techniques or other forms of information technology.

Direct Comments To OMB

Written comments and/or suggestions regarding the items(s) contained in this notice, especially regarding the estimated public burden and associated response time, should be directed to the: Office of Management and Budget, Office of Regulatory Affairs, New Executive Office Building, Room 10235, Washington, DC 20503. Attention: Desk Officer for NIH. To request more information on the proposed project or to obtain a copy of the data collection plans and instruments, contact Susan L. David, Project Officer; Division of Epidemiology, Services, and Prevention Research, National Institute on Drug Abuse, 6001 Executive Blvd. Room 5153, MSC 9589, Bethesda, MD 20892-9589; or call non-toll-free number (301) 443-6504; or fax to (301) 443-2636; or email your request, including your address, to: sdavid@nida.nih.gov.

Comments Due Date

Comments regarding this information collection are best assured of having their full effect if received on or before March 22, 2001.

Dated: February 12, 2001.
Laura Rosenthal,
Executive Officer, NIDA.

[FR Doc. 01-4092 Filed 2-16-01; 8:45 am]

BILLING CODE 4140-01-M